DEPARTMENT OF THE INTERIOR

Bureau of Land Management

[LLWO320000 L13300000.PP0000 12X]

Renewal of Approved Information Collection

AGENCY: Bureau of Land Management, Interior.

ACTION: 60-day notice and request for comments.

SUMMARY: In compliance with the Paperwork Reduction Act, the Bureau of Land Management (BLM) is announcing its intention to request approval to continue the collection of information regarding leases of solid minerals other than coal and oil shale. The Office of Management and Budget (OMB) has assigned control number 1004-0121 to this information collection.

DATES: Please submit comments on the proposed information collection by November 26, 2012.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic Mail: Jean_Sonneman@blm.gov.

Please indicate “Attn: 1004-0121” regardless of the form of your comments.

FOR FURTHER INFORMATION CONTACT: Vince Vogt, at 202-912-7125. Persons who use a telecommunication device for the deaf (TDD) may call the Federal Information Relay Service (FIRS) at 1-800-877-8339, to leave a message for Mr. Vogt.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Leasing of Solid Minerals Other Than Coal and Oil Shale (43 CFR Parts 3500, 3580, and 3590).

OMB Control Number: 1004-0121.

Abstract: This control number enables the BLM to fulfill its responsibilities regarding prospecting permits, exploration licenses, leases, the exchange of leases, use permits, and the regulation of mining activities for solid minerals other than coal or oil shale. The information activities currently approved under control number 1004-0121 include requirements that an applicant, a permittee or a lessee submit information that enables the BLM to:

• Determine if applicants, permittees, and lessees meet qualification criteria;

• Assure compliance with various other legal requirements relating to the leasing of solid minerals other than coal or oil shale;

• Gather data needed to determine the environmental impacts of developing solid leasable minerals other than coal or oil shale;

• Maintain accurate leasing records; and

• Oversee and manage the leasing of solid minerals other than coal or oil shale.

Frequency of Collection: On occasion.

Description of Respondents: Applicants for, and holders of, the following items in connection with solid minerals other than coal or oil shale:

• Prospecting permits;

• Exploration licenses;

• Leases; and

• Use permits.

Estimated Annual Responses: 473.

Estimated Annual Burden Hours: 16,346.

Jean Sonneman,
Information Collection Clearance Officer, Bureau of Land Management.

[FR Doc. 2012-23811 Filed 9-26-12; 8:45 am]

BILLING CODE 4310-84-P